DEPARTMENT OF ENERGY

U.S. Energy Information Administration

Agency Information Collection Extension

AGENCY: U.S. Energy Information Administration (EIA), Department of Energy.

ACTION: Notice and request for OMB review and comment.

SUMMARY: The EIA has submitted an information collection request to the OMB for extension under the provisions of the Paperwork Reduction Act of 1995. The information collection requests a three-year extension with changes for Form FE-746R, “Natural Gas Imports and Exports,” OMB Control Number 1901-0294. The proposed collection will support DOE's Office of Fossil Energy (FE) in the collection of critical information on U.S. natural gas trade. Data collected include name of importer/exporter; country of origin/destination; international point of entry/exit; name of supplier; volume; price; transporters; U.S. geographic market(s) served; and duration of supply contract on a monthly basis. The data, published in Natural Gas Imports and Exports, are used to monitor North American gas trade, and to support various market and regulatory analyses done by FE.

DATES: Comments regarding this proposed information collection must be received on or before June 9, 2016. If you anticipate that you will be submitting comments, but find it difficult to do so within the period of time allowed by this notice, please advise the DOE Desk Officer at OMB of your intention to make a submission as soon as possible. The Desk Officer may be telephoned at 202-395-4718.

ADDRESSES: Written comments should be sent to the:

DOE Desk Officer, Office of Information and Regulatory Affairs, Office of Management and Budget, New Executive Office Building, Room 10102, 735 17th Street NW., Washington, DC 20503

And to

Benjamin Nussdorf, U.S. Department of Energy (FE-34), Office of Regulation and International Engagement, Office of Fossil Energy, Forrestal Building, Room 3E-042, 1000 Independence Avenue SW., Washington, DC 20585, (P) (202) 586-7893, (F) (202) 586-6050, Benjamin.nussdorf@hq.doe.gov

FOR FURTHER INFORMATION CONTACT: Requests for additional information or copies of the information collection instrument and instructions should be directed to Benjamin Nussdorf at the contact information above. Copies of the information collection instruments and instructions can also be viewed at http://energy.gov/fe/services/natural-gas-regulation/guidelines-filing-monthly-reports.

SUPPLEMENTARY INFORMATION:

This information collection request contains:

(1) OMB No. 1901-0294;

(2) Information Collection Request Title: Natural Gas Imports and Exports;

(3) Type of Request: Three year extension with changes;

(4) Purpose: The Federal Energy Administration Act of 1974 (15 U.S.C. 761 et seq.) and the DOE Organization Act (42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (44 U.S.C. chapter 35), provides the general public and other Federal agencies with opportunities to comment on collections of energy information conducted by or in conjunction with the EIA. Also, the EIA will later seek approval by the Office of Management and Budget (OMB) under section 3507(a) of the Paperwork Reduction Act of 1995.

DOE's Office of Fossil Energy (FE) is authorized to regulate natural gas imports and exports and require the filing of reports under section 3 of the Natural Gas Act of 1938 and 15 U.S.C. 717b. In order to carry out its statutory responsibility, FE requires those persons seeking to import or export natural gas to file an application and provide basic information on the scope and nature of the proposed import/export activity. Once an importer or exporter receives authorization from FE, they are required to submit monthly reports of all import and export transactions. Form FE-746R collects critical information on U.S. natural gas trade including: Name of importer/exporter; country of origin/destination; international point of entry/exit; name of supplier; volume; price; transporter; geographic market served; and duration of supply contract on a monthly basis. The data, published in Natural Gas Imports and Exports, are used to ensure compliance with the terms and conditions of the authorizations. In addition, the data are used to monitor North American gas trade, which, in turn, enables the Federal government to perform market and regulatory analyses; improve the capability of industry and the government to respond to any future energy-related supply problems; and keep the general public informed of international natural gas trade;

(4a) FE proposes to add the following reporting sections. These sections will serve only to clarify the reporting and will not add data elements to the reporting burden. The current forms authorization holders use to report their data does not properly align with the modes of transportation used, or the products being exported and imported. While there are new forms being added, these forms will be a direct substitute for the current forms for applicable authorization holders. These sections are for the collection and identification of new types of natural gas transactions related to:

(a) Exports/imports of compressed natural gas by vessel;

a. Current form does not cover compressed natural gas by vessel,

(b) Exports/imports of compressed natural gas by rail;

a. Current form does not cover compressed natural gas by rail,

(c) Exports/imports of compressed natural gas by waterborne transport;

a. Current form does not cover compressed natural gas by waterborne transport,

(d) Exports/imports of liquefied natural gas by rail;

a. Current form does not cover exports/imports by rail,

(e) Exports/imports of liquefied natural gas by waterborne transport;

a. Current form does not cover exports/imports by waterborne transport,

(f) Other exports and imports of natural gas by rail, truck, vessel, and waterborne transport;

a. Current form does not cover non-liquefied natural gas or pipeline gas exports/imports,

(g) Re-export of liquefied natural gas by vessel;

a. Current form does not cover re-export of liquefied natural gas

(h) Exports/Imports of liquefied natural gas by vessel in International Standards Organization (ISO) containers.

a. Current form also does not cover ISO containers

(5) Annual Estimated Number of Respondents: 371;

(6) Annual Estimated Number of Total Responses: 4,452;

(7) Annual Estimated Number of Burden Hours: 13,356;

(8) Annual Estimated Reporting and Recordkeeping Cost Burden: There are no additional costs associated with the surveys other than the burden hours. The information is maintained in the normal course of business. The cost of burden hours to the respondents is estimated to be $961,899 (13,356 burden hours times $72.02 per hour). Therefore, other than the cost of burden hours, FE estimates that there are no additional costs for generating, maintaining and providing the information.

Statutory Authority: Section 13(b) of the Federal Energy Administration Act of 1974, Public Law 93-275, codified at 15 U.S.C. 772(b) and section 3 of the Natural Gas Act of 1938, codified at 15 U.S.C. 717b.

Issued in Washington, DC, on May 4, 2016.
Nanda Srinivasan,
Director, Office of Survey Development and Statistical Integration, U.S. Energy Information Administration.

[FR Doc. 2016-10951 Filed 5-9-16; 8:45 am]

BILLING CODE 6450-01-P